DEPARTMENT OF ENERGY

Federal Energy Regulatory Commission

[Docket No. CP09-150-000]

CenterPoint Energy Gas Transmission Company; Notice of Request Under Blanket Authorization

April 22, 2009.

Take notice that on April 14, 2009, CenterPoint Energy Gas Transmission Company (CEGT), 1111 Louisiana Street Houston, TX 77002, filed a prior notice request pursuant to Part 157.205 of the Commission's regulations under the Natural Gas Act (NGA) for authorization to abandon by sale CEGT's Line HM-36 located in Ouachita Parish, Louisiana, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, CEGT requests authorization to abandon by sale and transfer to CenterPoint Energy Louisiana Gas (Louisiana Gas), Line HM-36 in its entirety. Line HM-36 is composed of approximately 262 feet of 2-inch diameter steel pipe and is currently operated at 375 psig to deliver gas to a Louisiana Gas distribution system rural extension.

Any questions regarding the application should be directed to Lawrence O. Thomas, Director, Rate & Regulatory, CenterPoint Energy Gas Transmission Company, PO Box 21734 Shreveport, LA 71151, phone: (318) 429-2804, fax: (318) 429-3133, e-mail: larry.thomas@centerpointenergy.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link.

Kimberly D. Bose,
Secretary.

[FR Doc. E9-9711 Filed 4-28-09; 8:45 am]

BILLING CODE 6717-01-P